DEPARTMENT OF COMMERCE

National Oceanic and Atmospheric Administration

RIN 0648-XI32

Marine Mammals; File Nos. 1127-1921 and 10018

AGENCY: National Marine Fisheries Service (NMFS), National Oceanic and Atmospheric Administration (NOAA), Commerce.

ACTION: Notice; issuance of permits.

SUMMARY: Notice is hereby given that the Hawaii Marine Mammal Consortium, P.O. Box 6107, Kamuela, HI 96743 [File No. 1127-1921] and Dr. Rachel Cartwright, 5277 West Wooley Rd., Oxnard, CA 93035 [File No. 10018] have each been issued a permit to conduct scientific research on several species of cetaceans found in Hawaiian waters.

ADDRESSES: These permits and related documents are available for review upon written request or by appointment in the following offices:

Permits, Conservation and Education Division, Office of Protected Resources, NMFS, 1315 East-West Highway, Room 13705, Silver Spring, MD 20910; phone (301)713-2289; fax (301)427-2521; and

Pacific Islands Region, NMFS, 1601 Kapiolani Blvd., Rm 1110, Honolulu, HI 96814-4700; phone (808)944-2200; fax (808)973-2941.

FOR FURTHER INFORMATION CONTACT: Brandy Belmas or Carrie Hubard, (301)713-2289.

SUPPLEMENTARY INFORMATION: On July 11, 2007, notice was published in the Federal Register (72 FR 37731) that a request for a scientific research permit to take 24 species of cetaceans in Hawaiian waters, including the following endangered species: blue whale (Balaenoptera musculus), fin whale (B. physalus), humpback whale (Megaptera novaeangliae), sei whale (B. borealis), and sperm whale (Physeter macrocephalus), had been submitted by the Hawaii Marine Mammal Consortium. In addition, on August 6, 2007, notice was published in the Federal Register (72 FR 43626) that a request for a scientific research permit to take humpback whales in Hawaiian waters, had been submitted by Dr. Cartwright. The requested permits have been issued under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

Permit No. 1127-1921 authorizes a total of 6390 annual takes, of the species listed above, by means of close approach via vessel for photo-identification, behavioral observation, acoustic recording, underwater photography and video, photogrammetry, collection of sloughed skin and fecal samples, and incidental harassment. Up to 860 takes, of the total authorized, are allocated for biopsy sampling. With the exception of humpback whales, all age/sex classes, except calves less than one year and associated mothers, may be biopsy sampled. No humpback whale calves less than 6 months of age would be biopsy sampled. The objectives of this research are to study the status, numbers, distribution, and life histories of several cetacean species found in Hawaiian waters.

Permit No. 10018 authorizes up to 540 annual takes of humpback whales (420 juveniles/adults; 120 calves) by means of close approach via vessel for photo-identification, focal follows, underwater observations, collection of sloughed skin, and incidental harassment. Incidental harassment of bottlenose dolphins (Tursiops truncatus), spinner dolphins (Stenella longirostris), pantropical spotted dolphins (Stenella attenuata), false killer whales (Pseudorca crassidens), and short-finned pilot whales (Globicephala macrorhynchus) is also authorized. The purpose of this research is to test the hypotheses that behavior, dynamics, and distribution of female/calf pairs varies between different stocks and may be influenced by abiotic factors such as aspects of bathymetry, water quality, and levels of vessel traffic.

In compliance with the National Environmental Policy Act of 1969 (42 U.S.C. 4321 et seq.), an environmental assessment was prepared analyzing the effects of the permitted activities. After a Finding of No Significant Impact, the determination was made that it was not necessary to prepare an environmental impact statement.

Issuance of these permits, as required by the ESA, was based on a finding that such permits: (1) were applied for in good faith; (2) will not operate to the disadvantage of such endangered species; and (3) are consistent with the purposes and policies set forth in section 2 of the ESA.

Dated: June 19, 2008.
P. Michael Payne,
Chief, Permits, Conservation and Education Division, Office of Protected Resources, National Marine Fisheries Service.

[FR Doc. E8-14415 Filed 6-24-08; 8:45 am]

BILLING CODE 3510-22-S